SECURITIES AND EXCHANGE COMMISSION

[File No. 500-1]

In the Matter of Magnum Resources, Inc., Manakoa Services Corp. (n/k/a Teslavision Corp.), Maxus Technology Corp., Med/Waste, Inc., Medsearch Technologies, Inc., and Meisenheimer Capital, Inc.; Order of Suspension of Trading

August 18, 2009.

It appears to the Securities and Exchange Commission that there is a lack of current and accurate information concerning the securities of Magnum Resources, Inc. because it has not filed any periodic reports since the period ended April 30, 1999.

It appears to the Securities and Exchange Commission that there is a lack of current and accurate information concerning the securities of Manakoa Services Corp. (n/k/a Teslavision Corp.) because it has not filed any periodic reports since the period ended December 31, 2006.

It appears to the Securities and Exchange Commission that there is a lack of current and accurate information concerning the securities of Maxus Technology Corp. because it has not filed any periodic reports since the period ended November 30, 2004.

It appears to the Securities and Exchange Commission that there is a lack of current and accurate information concerning the securities of Med/Waste, Inc. because it has not filed any periodic reports since the period ended September 30, 2000.

It appears to the Securities and Exchange Commission that there is a lack of current and accurate information concerning the securities of Medsearch Technologies, Inc. because it has not filed any periodic reports since the period ended September 30, 2001.

It appears to the Securities and Exchange Commission that there is a lack of current and accurate information concerning the securities of Meisenheimer Capital, Inc. because it has not filed any periodic reports since the period ended February 29, 2004.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on August 18, 2009, through 11:59 p.m. EDT on August 31, 2009.

By the Commission.
Florence E. Harmon,
Deputy Secretary.

[FR Doc. E9-20111 Filed 8-18-09; 4:15 pm]

BILLING CODE 8010-01-P